NUCLEAR REGULATORY COMMISSION

Notice of a Public Meeting of the Interagency Steering Committee on Radiation Standards

AGENCIES: Nuclear Regulatory Commission and U. S. Environmental Protection Agency.

ACTION: Notice of public meeting.

SUMMARY: The U.S. Nuclear Regulatory Commission (NRC) will hold a meeting of the Interagency Steering Committee on Radiation Standards (ISCORS) on June 13, 2000. The purpose of ISCORS is to foster early resolution and coordination of regulatory issues associated with radiation standards.

Agencies represented on ISCORS include the NRC; U.S. Environmental Protection Agency; the U.S. Department of Defense; U.S. Department of Energy; U.S. Department of Labor's, Occupational Safety and Health Administration; U.S. Department of Transportation; and the U.S. Department of Health and Human Service. Representatives of the Office of Management and Budget (OMB), the Office of Science Technology Policy (OSTP), and of the States are observers at meetings.

The objectives of ISCORS include:

(1) Facilitating a consensus on acceptable levels of radiation risk to the public and workers;

(2) Promoting consistent risk assessment and risk management approaches in setting and implementing standards for occupational and public protection from ionizing radiation;

(3) Promoting completeness and coherence of Federal standards for radiation protection; and

(4) Identifying interagency issues and coordinating their resolution.

ISCORS meetings involve pre-decisional, intra-governmental discussions and, as such, are not normally open for observation by members of the public or media. However, summary meeting notes are available at the ISCORS website http://www.iscors.org. ISCORS meets approximately once each calendar quarter.

DATES: The meeting will be held from 1 to 5 p.m. on Tuesday, June 13, 2000.

ADDRESSES: The meeting will be held in the NRC Auditorium at Two White Flint North, 11545 Rockville Pike, Rockville, Maryland 20852.

FOR FURTHER INFORMATION CONTACT: Questions with respect to this action should be referred to Patricia A. Santiago, Division of Waste Management, Office of Nuclear Material Safety and Safeguards, U.S. Nuclear Regulatory Commission at (301) 415-7269; fax 301-415-5398; E-mail pas2@nrc.gov; or Behram Shroff, Office of Air and Radiation, U.S. Environmental Protection Agency at (202) 564-9707; fax 202-565-2065; E-mail shroff.behram@epa.gov.

SUPPLEMENTARY INFORMATION: Visitor parking around the NRC building is limited; however, the workshop site is located adjacent to the White Flint Metro Station on the Red Line. Seating for the public will be on a first-come, first-served basis.

Dated at Rockville, Maryland, this 22nd day of May, 2000.
For the Nuclear Regulatory Commission.
John T. Greeves,
Director, Division of Waste Management, Office of Nuclear Material Safety and Safeguards.

[FR Doc. 00-13456 Filed 5-26-00; 8:45 am]

BILLING CODE 7590-01-P